NATIONAL ARCHIVES AND RECORDS ADMINISTRATION

[NARA-2014-025]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 30, 2014. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001

E-Mail: request.schedule@nara.gov.

Fax: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Risk Management Agency (DAA-0258-2014-0002, 4 items, 3 temporary items). Records related to the Federal Crop Insurance Corporation, including cost benefit analysis studies, proposed and draft rules and regulations, and Paper Reduction Act records. Proposed for permanent retention are final regulations, crop insurance policies, and administrative rules.

2. Department of the Army, Agency-wide (DAA-AU-2013-0007, 1 item, 1 temporary item). Master files of an electronic information system that contains data on individuals seeking access to military facilities including biographic information, contact information, and security clearance level.

3. Department of Commerce, Economic Development Administration (DAA-0378-2014-0001, 7 items, 4 temporary items). Records of the Office of the Assistant Secretary, including invitations, daily schedules, briefing materials, and weekly reports. Proposed for permanent retention are the Assistant Secretary's briefing books, high level correspondence, and agency performance reports.

4. Department of Commerce, Economic Development Administration (DAA-0378-2014-0004, 10 items, 8 temporary items). Records of the Public Affairs Division, including speeches, press releases, social media posts, media advisories, blog posts, Federal funding opportunity notices, and newsletters. Proposed for permanent retention are the speeches of the Assistant Secretary and photographs of significant events.

5. Department of Commerce, Economic Development Administration (DAA-0378-2014-0005, 6 items, 4 temporary items). Records of the Legislative Affairs Division, including correspondence and grant announcements. Proposed for permanent retention are congressional hearing briefing books and annual reports.

6. Department of Commerce, Economic Development Administration (DAA-0378-2014-0007, 6 items, 6 temporary items). Records of the Office of Finance and Management Services, including loan management files and real property records for public works, business development, and drought programs.

7. Department of Commerce, Economic Development Administration (DAA-0378-2014-0012, 4 items, 4 temporary items). Video productions of routine agency services, miscellaneous videos of conferences and presentations, and records related to awards given to community groups, private sector companies, and universities.

8. Department of Defense, Office of the Secretary of Defense (DAA-0330-2013-0018, 1 item, 1 temporary item). Master files of an electronic information system used to provide continuous security updates on individuals seeking access to Department facilities.

9. Department of Defense, Office of the Secretary of Defense (DAA-0330-2014-0011, 1 item, 1 temporary item). Master files of an electronic information system that contains biometric information for security background investigations.

10. Department of Defense, Defense Logistics Agency (DAA-0361-2013-0011, 5 items, 5 temporary items). Records relating to equipment management and control systems including disposal and maintenance histories.

11. Department of Defense, Defense Logistics Agency (DAA-0361-2014-0002, 1 item, 1 temporary item). Certificates and general reports relating to the demilitarization of property.

12. Department of Defense, Defense Logistics Agency (DAA-0361-2014-0003, 1 item, 1 temporary item). Records relating to the registration of privately owned firearms.

13. Department of Defense, Defense Logistics Agency (DAA-0361-2014-0004, 5 items, 5 temporary items). Records relating to morale, welfare, and recreation programs, including marketing and sponsorship files.

14. Department of Education, Agency-wide (DAA-0441-2013-0001, 1 item, 1 temporary item). Debarment and suspension case files related to the administration of the grants program.

15. Department of Justice, Drug Enforcement Administration (DAA-0170-2014-0002, 1 item, 1 temporary item). Control sheets and correspondence documenting administrative amendments to investigative case files.

16. Department of Justice, Drug Enforcement Administration (DAA-0170-2014-0003, 2 items, 2 temporary items). Records documenting court ordered expungements and expunged records.

17. Department of the Navy, Agency-wide (DAA-0024-2013-0001, 3 items, 1 temporary item). Copies of monthly rosters of enlisted personnel. Proposed for permanent retention are monthly Department of Navy rosters and legacy microfilm of rosters.

Dated: April 24, 2014.
Laurence Brewer,
Director, National Records Management Program.

[FR Doc. 2014-09827 Filed 4-29-14; 8:45 am]

BILLING CODE 7515-01-P